FEDERAL COMMUNICATIONS COMMISSION

47 CFR Part 25

[GN Docket Nos. 18-122, 17-183, RM-11791, RM-11778; FCC 18-91]

Expanding Flexible Use of the 3.7 to 4.2 GHz Band

AGENCY: Federal Communications Commission.

ACTION: Final action; information collection approval; announcement of effective date.

SUMMARY: In this document, the Commission announces that the Office of Management and Budget (OMB) has approved the request for the information collection requirements contained in the Commission's Expanding Flexible Use of the 3.7 to 4.2 GHz Band, Order. This document is consistent with the Order, which stated that the Commission would publish a document in the Federal Register announcing OMB approval and the effective date of these rules.

DATES: The Earth Station and Space Station Information Collections in paragraphs 7-12 of the Order published at 83 FR 42043, August 20, 2018, are effective April 4, 2019.

FOR FURTHER INFORMATION CONTACT: Cathy Williams by email at Cathy.Williams@fcc.gov and telephone at (202) 418-2918.

SUPPLEMENTARY INFORMATION: This document announces that, on January 28, 2019, OMB approved the request that the Commission submitted pertaining to the revisions to information collection requirements contained in the Commission's Order, FCC 18-91, published at 83 FR 42043, August 20, 2018. The OMB Control Number is 3060-0678. The changes to OMB control number 3060- 0678 modified the burden hours and annual costs to the information collection. The Commission publishes this document as an announcement of the effective date of the rules.

Synopsis: As required by the Paperwork Reduction Act of 1995 (44 U.S.C. 3507), the FCC is notifying the public that OMB approved changes to information collection requirements contained in 83 FR 42043. Under 5 CFR part 1320, an agency may not conduct or sponsor a collection of information unless it displays a current, valid OMB Control Number. No person shall be subject to any penalty for failing to comply with a collection of information subject to the Paperwork Reduction Act that does not display a current, valid OMB Control Number. The OMB Control Number is 3060-0678. The foregoing notice is required by the Paperwork Reduction Act of 1995, Public Law 104-13, October 1, 1995, and 44 U.S.C. 3507.

The total annual reporting burdens and costs for the respondents are as follows:

OMB Control Number: 3060-0678.

OMB Approval Date: January 28, 2018.

OMB Expiration Date: January 31, 2022.

Title: Part 25 of the Federal Communications Commission's Rules Governing the Licensing of, and Spectrum Usage by, Commercial Earth Stations and Space Stations.

Form Number: FCC Form 312; Schedule A; Schedule B: Schedule S; FCC Form 312-R, FCC Form 312-EZ.

Respondents: Business or other for profit entities; Not for profit institutions.

Number of Respondents and Responses: 7,170 respondents; 7,219 responses.

Estimated Time per Response: 0.5-80 hours.

Frequency of Response: On occasion, one time, and annual reporting requirements; third party disclosure requirement; recordkeeping requirement.

Obligation to Respond: Required to obtain or retain benefits. The statutory authority that covers this information collection is contained in 47 U.S.C. 154, 301, 302, 303, 307, 309, 310, 319, 332, 605 and 721.

Total Annual Burden: 42,014 Hours.

Total Annual Cost: $12,411,120.

Privacy Impact Assessment: No impact(s).

Nature and Extent of Confidentiality: In general, there is no need for confidentiality with this collection of information. Certain information collected regarding international coordination of satellite systems is not routinely available for public inspection pursuant to 5 U.S.C. 552(b) and 47 CFR 0.457(d)(vii).

Needs and Uses: The Office of Management and Budget (OMB) approved a revision of the information collection titled “Part 25 of the Federal Communications Commission's Rules Governing the Licensing of, and Spectrum Usage By, Commercial Earth Stations and Space Stations” under OMB Control No. 3060-0678, as a result of a recent rulemaking discussed below.

On July 13, 2018, the Federal Communications Commission (“Commission”) released an Order titled, “In the Matter of Expanding Flexible Use of the 3.7 to 4.2 GHz Band; Expanding Flexible Use in Mid-Band Spectrum Between 3.7 and 24 GHz; Petition for Rulemaking to Amend and Modernize Parts 25 and 101 of the Commission's Rules to Authorize and Facilitate the Deployment of Licensed Point-to-Multipoint Fixed Wireless Broadband Service in the 3.7-4.2 GHz Band; Fixed Wireless Communications Coalition, Inc., Request for Modified Coordination Procedures in Band Shared Between the Fixed Service and the Fixed Satellite Service,” GN Docket No. 18-122, GN Docket No. 17-183, RM-11791, RM-11778 (FCC 18-91). The Order has been published in the Federal Register. 83 FR 42043 (Aug. 20, 2018).

In this proceeding, the Commission seeks to identify potential opportunities for additional terrestrial use for wireless broadband services of 500 megahertz of mid-band spectrum between 3.7-4.2 GHz. In response to concerns that the Commission's information regarding current use of the band is inaccurate and/or incomplete, the Commission adopted an Order requesting additional information from operators in the fixed-satellite service (FSS). Specifically, for FSS operators in the 3.7-4.2 GHz band, the Order (1) requests additional information on the operations of temporary-fixed earth station licensees, and (2) requests additional information on the operations of space stations. This information collection will provide the Commission and the public with additional information about existing FSS operators that will be used to consider potential new terrestrial services in the 3.7-4.2 GHz band while protecting the interests of those FSS operators. The Order also requires certain earth station operators to file certifications that information on file with the Commission remains accurate.

Federal Communications Commission.
Cecilia Sigmund,
Federal Register Liaison.

[FR Doc. 2019-06472 Filed 4-3-19; 8:45 am]

BILLING CODE 6712-01-P